DEPARTMENT OF HOMELAND SECURITY

[Docket No. DHS-2012-0001]

Critical Infrastructure Private Sector Clearance Program Request

AGENCY: National Protection and Programs Directorate, DHS.

ACTION: 30-day notice and request for comments;

Reinstatement, with change, of a previously approved collection.

SUMMARY: The Department of Homeland Security (DHS), National Protection and Programs Directorate (NPPD), Office of Infrastructure Protection (IP) will submit the following Information Collection Request (ICR) to the Office of Management and Budget (OMB) for review and clearance in accordance with the Paperwork Reduction Act of 1995 (Pub. L. 104-13, 44 U.S.C. Chapter 35). NPPD is soliciting comments concerning Reinstatement, with change, of a previously approved ICR for the Critical Infrastructure Private Sector Clearance Program (PSCP). DHS previously published this ICR in the Federal Register on April 12, 2012, for a 60-day public comment period. DHS received no comments. The purpose of this notice is to allow an additional 30 days for public comments.

DATES: Comments are encouraged and will be accepted until August 29, 2012. This process is conducted in accordance with 5 CFR 1320.10.

ADDRESSES: Interested persons are invited to submit written comments on the proposed information collection to the Office of Information and Regulatory Affairs, OMB. Comments should be addressed to OMB Desk Officer, DHS, Office of Civil Rights and Civil Liberties. Comments must be identified by DHS-2012-0001 and may be submitted by one of the following methods:

• Federal eRulemaking Portal: http://www.regulations.gov.

• Email: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: Monika Junker, DHS/NPPD/IP, monika.junker@dhs.gov, (703) 235-8229.

SUPPLEMENTARY INFORMATION: PSCP sponsors clearances for private sector partners who are responsible for critical infrastructure protection but would not otherwise be eligible for a clearance under Executive Order 12829. These partners are subject matter experts within specific industries and sectors. The PSCP requires individuals to complete a clearance request form that initiates the clearance process. DHS Sector Specialists or Protective Security Advisors email the form to the individual who then emails back the completed form, minus their date and place of birth and social security number. The clearance request form is signed by both the Federal official who nominated the applicant and the Assistant Secretary for Infrastructure Protection. Upon approval to process, the PSCP Administrator contacts the nominee to obtain the social security number, date and place of birth, and will then enter this data into e-QIP—Office of Personnel Management's secure portal for investigation processing. Once the data is entered in e-QIP, the applicant can complete the online security questionnaire. The PSCP maintains all applicants' information in the Master Roster, which contains all the information found on the clearance request form in addition to their clearance information (date granted, level of clearance, date non-disclosure agreements signed, and type/date of investigation). The Administrator of the Master Roster maintains the information to track clearance processing and investigation information and to have the most current contact information for the participants from each sector.

Analysis

Agency: Department of Homeland Security, National Protection and Programs Directorate, Office of Infrastructure Protection.

Title: Critical Infrastructure Private Sector Clearance Program.

OMB Number: 1670-0013.

Frequency: Once.

Affected Public: Designated private sector employees of critical infrastructure entities or organizations.

Number of Respondents: 450 (estimate).

Estimated Time Per Respondent: 10 minutes.

Total Burden Hours: 75.

Total Burden Cost (capital/startup): $0.

Total Recordkeeping Burden: $0.

Total Burden Cost (operating/maintaining): $0.

Dated: July 24, 2012.
Scott Libby,
Acting Chief Information Officer, National Protection and Programs Directorate, Department of Homeland Security.

[FR Doc. 2012-18546 Filed 7-27-12; 8:45 am]

BILLING CODE 9110-9P-P